DEPARTMENT OF HEALTH AND HUMAN SERVICES

National Institutes of Health

Evaluating the Therapeutic Potential of Cannabinoids: How To Conduct Research Within the Current Regulatory Framework

AGENCY: National Institutes of Health, HHS.

ACTION: Notice.

SUMMARY: This workshop on December 8, 2018, sponsored by the National Center for Complementary and Integrative Health (NCCIH), a component of the National Institutes of Health (NIH), will bring together researchers, governmental officials, and industry representatives to discuss the processes and issues related to conducting cannabinoid research.

DATES: The meeting will be held on December 8, 2018, from 8:00 a.m. to 5:30 p.m. (EST).

ADDRESSES: The meeting will be videocast. A link to the videocast will be posted on the NCCIH website, https://nccih.nih.gov/node/12170, once available.

FOR FURTHER INFORMATION CONTACT: For information concerning this meeting, see the NCCIH website, https://nccih.nih.gov/node/12170, or contract Dr. Angela Arensdorf, Science Policy Analyst, Office of Policy, Planning, and Evaluation, National Center for Complementary and Integrative Health, 9000 Rockville Pike, Building 31, Suite 2B11, Bethesda, MD 20892, telephone: 301-827-8277; email: angela.arensdorf@nih.gov.

SUPPLEMENTARY INFORMATION: This workshop will be an all-day meeting held on December 8, 2018 and will bring together representatives from the NIH, FDA, DEA, academia, and industry to discuss the issues related to conducting research with cannabinoids. The goals of this meeting are to gain an understanding of how to navigate this regulatory space, discuss future research opportunities, and foster collaborations. The focus of this workshop will be on the state of the science and working within current regulations. This meeting will NOT discuss challenging or changing current Federal laws, policies or regulations.

Dated: November 23, 2018.
David Shurtleff,
Acting Director, National Center for Complementary and Integrative Health, National Institutes of Health.

[FR Doc. 2018-26127 Filed 11-30-18; 8:45 am]

BILLING CODE 4140-01-P